DEPARTMENT OF HEALTH AND HUMAN SERVICES

Centers for Disease Control and Prevention

Epi-Centers for the Prevention of Healthcare-Associated Infections, Antimicrobial Resistance and Adverse Events

AGENCY: Centers for Disease Control and Prevention (CDC), Department of Health and Human Services (DHHS).

ACTION: Notice of Domestic Single Source Competition Expansion Supplement Funding Opportunity Announcement (FOA).

SUMMARY: The National Center for Emerging and Zoonotic Infectious Diseases (NCEZID) will be providing a Single Source Competition Supplement to Harvard Pilgrim Healthcare, an awardee of the Epi-Centers for the Prevention of Healthcare-Associated Infections, Antimicrobial Resistance and Adverse Events Cooperative Agreement. The single source supplement will fund research utilizing proprietary methods to improve sepsis prevention by better defining the burden, preventability and identifying measurers to track progress.

DATES: Effective date is date of publication in the Federal Register.

ADDRESSES: John Jernigan, MD, MS, Division of Healthcare Quality Promotion, National Center for Emerging and Zoonotic Infectious Diseases, Centers for Disease Control and Prevention, 1600 Clifton RD, Atlanta, GA 30333. Phone: 404-639-4245. FAX: 404-639-4046. Email: jqj9@cdc.gov.

FOR FURTHER INFORMATION CONTACT: Deborah Loveys, Ph.D., Extramural Programs Research Office, National Center for HIV/AIDS, Viral Hepatitis, STD, and TB Prevention, Centers for Disease Control and Prevention, U.S. Department of Health and Human Services, 1600 Clifton Road, MS E-60, Atlanta, GA 30333. Telephone: (404) 718-8834. Fax: (404) 718-8848. Email: hft6@cdc.gov.

Dated: September 22, 2015.
Tiffanee Woodard,
Deputy Branch Chief, Epidemiology Research and Innovations Branch, Division of Healthcare Quality Promotion, Centers for Disease Control and Prevention.
Terrance Perry,
Director, Office of Grants Services, Centers for Disease Control and Prevention.

[FR Doc. 2015-24673 Filed 9-28-15; 8:45 am]

BILLING CODE 4163-18-P